DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995, this notice announces that the Information Collection abstracted below has been forwarded to the Office of Management and Budget (OMB) for review and approval. The nature of the information collection is described as well as its expected burden. The Federal Register Notice with a 60-day comment period soliciting comments on the following collection of information was published on March 7, 2012 and comments were due by May 7, 2012. No comments were received.

DATES: Comments must be submitted on or before July 18, 2012.

FOR FURTHER INFORMATION CONTACT: Rita Jackson on (202) 366-0284 or Anne Dougherty on (202) 366-5469, Maritime Administration, Office of Maritime Workforce Development, 1200 New Jersey Avenue SE., Washington, DC 20590. EMail Addresses: rita.jackson@dot.gov or anne.dougherty@dot.gov.

SUPPLEMENTARY INFORMATION: Maritime Administration.

Title: Service Obligation Compliance Report and Merchant Marine Reserve U.S. Naval Reserve Annual Report.

OMB Control No.: 2133-0509.

Type of Request: Extension of currently approved collection.

Affective Public: Graduates of the U.S. Merchant Marine Academy and every subsidized State maritime academy graduate who receive a student incentive payment.

Forms: MA-930.

Abstract: Section 801 of the Merchant Marine Act, 1936, as amended (46 U.S.C. 53101, note), Chapters 513 and 515 of the United States Code imposes a service obligation on every graduate of the U.S. Merchant Marine Academy, and every subsidized State Maritime Academy graduate who received a student incentive payment. This mandatory service obligation is required to ensure the graduates are fulfilling their obligation to maintain a license as an officer in the merchant marine and report annually on their reserve status, training and employment.

Annual Estimated Burden Hours: 467 hours.

ADDRESSES: Send comments to the Office of Information and Regulatory Affairs, Office of Management and Budget, 725 17th Street NW., Washington, DC 20503, Attention: Maritime Administration Desk Officer. Alternatively, comments may be sent via 3-mail to the Office of Information and Regulatory Affairs (OIRA), Office of Management and Budget, at the following address: oira.submissions@omb.eop.gov.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect, if OMB receives it within 30 days of publication.

By Order of the Maritime Administrator.
Dated: June 12, 2012.
Julie P. Agarwal,
Secretary, Maritime Administration.

[FR Doc. 2012-14736 Filed 6-15-12; 8:45 am]

BILLING CODE 4910-81-P